DEPARTMENT OF THE INTERIOR

Bureau of Land Management

[BLM_UT_FRN_MO4500170254]

Notice of Proposed Withdrawal and Public Meeting, Utah

AGENCY: Bureau of Land Management, Department of the Interior.

ACTION: Notice of proposed withdrawal.

SUMMARY: At the request of the Bureau of Land Management (BLM), the Secretary of the Interior proposes to withdraw approximately 170,429 acres of public lands and interests in lands from all forms of entry, appropriation, and disposal under the public land laws; location and entry under the U.S. mining laws; operation of the mineral and geothermal leasing laws; and disposal under the mineral materials laws, subject to valid existing rights. The withdrawal is proposed for a period of five years to maintain the status quo while the Department of the Interior, the State of Utah, and the State of Utah School and Institutional Trust Lands Administration (SITLA) consider a potential land exchange. Subject to valid existing rights, publication of this notice in the Federal Register segregates the lands for two years from the date of publication unless the segregative effect is terminated sooner. This notice also initiates a 90-day public comment period on the proposed withdrawal. A notice for public meeting(s) regarding the proposed withdrawal will be announced separately in the Federal Register, in at least one newspaper having general circulation, and on the agency website at least 30 days before the meeting(s).

DATES: Comments regarding this proposed withdrawal must be received by August 14, 2023.

ADDRESSES: All comments should be sent to Mary Higgins, Bureau of Land Management, Utah State Office, 440 West 200 South, Suite 500, Salt Lake City, Utah 84101-1345.

A map and other information related to the proposed withdrawal are available at the Bureau of Land Management Utah State Office, 440 West 200 South, Suite 500, Salt Lake City, Utah 84101-1345. Details are also available on the project ePlanning website: https://eplanning.blm.gov/eplanning-ui/home.

FOR FURTHER INFORMATION CONTACT: Mary Higgins, BLM Utah State Office, (801) 539-4105, or mhiggins@blm.gov, during regular business hours, 8 a.m. to 4 p.m., Monday through Friday, except holidays. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The BLM has filed a withdrawal petition and application requesting that the Secretary of the Interior withdraw, subject to valid existing rights, the public lands and interests in lands (excluding lands with Federally owned fractional mineral interests) described below from all forms of entry, appropriation, and disposal under the public land laws; location and entry under the U.S. mining laws; operation of the mineral and geothermal leasing laws; and disposal under the mineral materials laws, for five years. A withdrawal would maintain the status quo on public land and interests in lands described below while the Department of the Interior, the State of Utah, and SITLA consider a potential land exchange to transfer certain state-administered lands inside the Bears Ears National Monument, and other parcels across the State, for other Federal lands administered by the BLM across Utah.

The legal description for the public lands and interest in lands proposed for withdrawal is as follows:

Salt Lake Meridian, Utah

T. 11 N., R. 5 E.,

Sec. 9, NE¼SE¼, S½NW¼SE¼, and S½SE¼;

Sec. 10, S½SW¼ and SE¼;

Sec. 11, NE¼, NE¼NW¼, S½NW¼, and S½;

Sec. 14.

T. 5 S., R. 1 W.,

Sec. 31, lot 7, SE¼SW¼, and SW¼SE¼.

T. 6 S., R. 1 W.,

Sec. 6, lots 1, 2, and SE¼NE¼.

T. 7 S., R. 1 W.,

Sec. 5, lots 4, 5, and W½SW¼;

Sec. 6, lot 1, SE¼NE¼, and E½SE¼.

T. 19 S., R. 1 W.,

Sec. 21, lots 1 thru 4, E½NW¼, E½SW¼, and W½SE¼;

Sec. 27, lot 1;

Sec. 28, lots 1 thru 4, W½NE¼, E½NW¼, E½SW¼, and SE¼;

Sec. 33;

Sec. 34, lots 1 thru 5.

T. 20 S., R. 1 W.,

Secs. 3 and 10;

Sec. 14, W½NW¼ and SW¼SW¼;

Sec. 15.

T. 20 S., R. 1½ W.,

Sec. 1.

T. 9 S., R. 2 W.,

Sec. 1, lots 3 and 4, S½NW¼, and SW¼;

Sec. 12, SW¼;

Sec. 13, NW¼;

Sec. 24;

Sec. 25, lots 1 thru 4, and E½NW¼.

T. 21 S., R. 2 W.,

Sec. 1.

T. 22 S., R. 2 W.,

Sec. 22, S½;

Sec. 23, S½;

Sec. 26, N½NE¼;

Sec. 27, NW¼NE¼, N½NW¼, and SW¼SW¼;

Sec. 28, SE¼SE¼;

Sec. 33, N½, SW¼, N½SE¼, and SW¼SE¼;

Sec. 34, N½NW¼.

T. 23 S., R. 2 W.,

Sec. 5.

T. 24 S., R. 2 W.,

Sec. 19, lots 3 and 4, SE¼NE¼, E½SW¼, and SE¼;

Sec. 20, NE¼, NE¼NW¼, S½NW¼, and S½;

Sec. 21, lots 1 thru 3, lots 5 thru 8, and W½;

Sec. 29, lots 1 thru 6, NW¼NE¼, NW¼, and S½SE¼;

Sec. 30, lots 1 thru 4, NE¼, E½NW¼, E½SW¼, N½SE¼, and SW¼SE¼.

T. 36 S., R. 3 W.,

Sec. 6, E½SE¼SE¼SW¼, SW¼SE¼SE¼SW¼, S½SE¼NE¼SE¼, SE¼SW¼NE¼SE¼, S½SW¼SE¼, and SE¼SE¼;

Sec. 7, lots 1 and 2.

T. 6 S., R. 4 W.,

Sec. 31, lots 5 thru 8, NE¼NE¼, W½NE¼, E½NW¼, E½SW¼, and W½SE¼.

T. 7 S., R. 4 W.,

Sec. 5, lots 1 thru 4, S½NE¼ and S½NW¼.

T. 5 S., R. 5 W.,

Sec. 11, SW¼NW¼ and NW¼SW¼.

T. 11 S., R. 5 W.,

Sec. 33, lots 6, 7, 11 thru 16, and S½.

T. 15 S., R. 5 W.,

Sec. 35, NE¼SW¼.

T. 44 S., R. 5 W.,

Sec. 3, SE¼SW¼;

Sec. 4, SW¼SW¼;

Sec. 8;

Sec. 9, lot 8;

Sec. 10, lots 1 thru 4, and N½NW¼.

T. 16 S., R. 6 W.,

Sec. 4, lots 3 and 4, S½NW¼, and SW¼;

Secs. 5, 8, and 9;

Sec. 10, S½;

Secs. 15 and 17;

Sec. 18, lots 1 thru 4, E½, SE¼NW¼, and E½SW¼;

Secs. 19 and 20;

Sec. 21, N½, SW¼, N½SE¼, N½SW¼SE¼, W½SW¼SW¼SE¼, and E½SE¼SE¼SE¼;

Sec. 22;

Sec. 29, N½NE¼, N½NW¼, and SW¼NW¼;

Sec. 30, lots 1 and 2, NE¼, and W½NW¼.

T. 19 S., R. 6 W.,

Secs. 17, 18, and 19;

Sec. 20, N½, N½SW½, and N½SE¼;

Sec. 21, NW¼, N½SW¼, SE¼SW¼, and SE¼;

Sec. 27, NW¼NW¼, S½NW¼, and S½;

Sec. 28, E½;

Sec. 30, lots 1 thru 4, NW¼NE¼, E½NW¼, NE¼SW¼, and W½SE¼SW¼;

Sec. 31, lots 1 thru 4 and W½NE¼NW¼;

Sec. 33, E½;

Sec. 34, N½ and W½SW¼.

T. 44 S., R. 6 W.,

Sec. 9, lots 5 and 6.

Sec. 10, lot 9, that portion lying south and west of Kaneplex Dr.

T. 17 S., R. 7 W.,

Sec. 10, NE¼SW¼.

T. 19 S., R. 7 W.,

Sec. 13, NE¼, E½NW¼, N½SE¼, and SE¼SE¼;

Sec. 20, SE¼NE¼ and E½SE¼;

Sec. 21, S½NW¼;

Sec. 22, S½NW¼, NE¼SW¼, W½SE¼, and SE¼SE¼;

Sec. 24, SE¼;

Sec. 25, NE¼, NE¼NW¼, S½NW¼, and S½;

Sec. 26, W½NW¼, N½SW¼, and N½SE¼;

Sec. 27, E½NE¼;

Sec. 29, NE¼ and NW¼SE¼;

Sec. 32, W½NE¼ and W½SE¼.

T. 20 S., R. 7 W.,

Sec. 1, lots 1 thru 4;

Sec. 5, lot 2, SW¼NE¼, SE¼SW¼, and W½SE¼;

Sec. 6, lot 7, SE¼SW¼, and SW¼SE¼;

Sec. 7, N½NE¼ and NE¼NW¼;

Sec. 8, N½NW¼.

T. 29 S., R. 7 W.,

Sec. 33, NW¼SE¼.

T. 32 S., R. 7 W.,

Sec. 7, lot 4;

Sec. 18, lot 1.

T. 15 S., R. 8 W.,

Sec. 17;

Sec. 18, E½NE¼, E½SE¼, and SW¼SE¼;

Sec. 19, NE¼;

Sec. 20, N½;

Sec. 21, N½.

T. 19 S., R. 8 W.,

Sec. 22, S½NE¼, S½NW¼, and S½;

Sec. 26, NW¼SW¼;

Sec. 27, N½, SW¼, NE¼SE¼, and S½SE¼;

Sec. 28, S½NE¼, S½NW¼, and S½;

Sec. 34, E½ and SE¼SW¼;

Sec. 35, S½NW¼, N½SW¼, and SE¼SE¼;

Sec. 36, SW¼SW¼.

T. 20 S., R. 8 W.,

Sec. 1, lots 3 and 4, SW¼NE¼, SE¼NW¼, N½SE¼, and SE¼SE¼.

T. 34 S., R. 9 W.,

Sec. 19, lots 1 thru 4, E½NW¼, and E½SW¼;

Sec. 30, lots 1 thru 4, NW¼NE¼, E½NW¼, and NE¼SW¼;

Sec. 31, lot 1.

T. 15 S., R. 10 W.,

Sec. 7, lots 3 and 4, E½SW¼, and SE¼.

T. 24 S., R. 10 W.,

Sec. 20, NW¼;

Sec. 21, W½NE¼, W½, W½SE¼, and SE¼SE¼;

Sec. 28, NE¼ and W½SE¼.

T. 26 S., R. 10 W.,

Sec. 21, W½;

Sec. 28, W½.

T. 27 S., R. 10 W.,

Sec. 20, N½NE¼, W½NW¼, and SW¼;

Sec. 21, N½NW¼, SE¼NW¼, and E½SW¼;

Sec. 28, E½NW¼ and S½SW¼;

Sec. 29, W½;

Sec. 33, NE¼, E½NW¼, E½SW¼, N½SE¼, and SW¼SE¼.

T. 34 S., R. 10 W.,

Sec. 24, S½NE¼, and SE¼;

Sec. 25, E½.

T. 35 S., R. 10 W.,

Sec. 19, lots 6 thru 9, and NE¼NW¼.

T. 24 S., R. 12 W.,

Sec. 15.

T. 40 S., R. 13 W.,

Sec. 22, NW¼SW¼;

Sec. 28, E½NE¼ and SW¼NE¼.

T. 41 S., R. 13 W.,

Sec. 9, lots 8 thru 10, E½NE¼, and W½SE¼;

Sec. 10, SE¼SW¼;

Sec. 15, NW¼, N½SW¼, and SW¼SW¼.

T. 11 S., R. 14 W.,

Sec. 7, E½SE¼;

Sec. 8, unsurveyed;

Secs. 9, unsurveyed;

Sec. 17, excepting patented mining claims, unsurveyed;

Sec. 18, excepting patented mining claims, unsurveyed.

T. 43 S., R. 14 W.,

Sec. 20, NW¼SW¼, S½SW¼, and S½SE¼;

Sec. 23, S½SW¼;

Secs. 26, 27, and 28;

Sec. 29, NE¼, NE¼NW¼, and NE¼SE¼.

T. 31 S., R. 15 W.,

Sec. 31.

T. 32 S., R. 15 W.,

Sec. 6.

T. 32 S., R. 16 W.,

Sec. 1.

T. 40 S., R. 17 W.,

Sec. 31, lots 2 and 3, NE¼, and SE¼NW¼.

T. 41 S., R. 17 W.,

Sec. 5, W½SE¼;

Sec. 7, lots 3 and 4, E½SW¼, and SE¼;

Sec. 8, W½NE¼, SE¼NW¼, N½SW¼, SE¼SW¼, and W½SE¼;

Sec. 17, W½NE¼, SE¼NW¼, NE¼SW¼, NE¼SE¼, and S½SE¼;

Sec. 18, lots 1 thru 4.

T. 39 S., R. 18 W.,

Sec. 8, S½SW¼ and S½SE¼;

Sec. 9, S½SW¼ and S½SE¼;

Sec. 10, S½SW¼;

Sec. 15, SW¼NE¼, NW¼, and S½;

Sec. 16, NE¼, E½NW¼, and S½;

Sec. 17, lots 1, 3, and 4, N½NE¼, SW¼NE¼, NW¼, and SW¼, excepting M.S. No. 6283, M.S. No. 6422, M.S. No. 6557, and M.S. No. 6768;

Sec. 18, NE¼, SE¼NW¼, E½SW¼, and SE¼ excepting M.S. No. 6283;

Sec. 19, excepting M.S. No. 6493, M.S. No. 6557, M.S. No. 6768, and M.S. No. 6698;

Sec. 20, excepting patented M.S. No. 6557, M.S. No. 6768, M.S. No. 6422, M.S. No. 6283, M.S. No. 6454;

Sec. 21, excepting patented M.S. No. 6283;

Sec. 22;

Sec. 23, W½SW¼;

Sec. 26, NW¼NW¼;

Sec. 27, N½NE¼ and N½NW¼;

Sec. 28, N½NE¼ and N½NW¼;

Sec. 29, N½, N½SW¼, and N½SE¼;

Sec. 30, lots 1 thru 4, NE¼, E½NW¼, E½SW¼, N½SE¼, and SW¼SE¼;

Sec. 31, lot 1, NW¼NE¼, and NE¼NW¼.

T. 40 S., R. 18 W.,

Sec. 19, lots 3, 4, and SE¼SW¼;

Sec. 29, SW¼;

Sec. 30, NW¼NE¼, S½NE¼, NE¼NW¼, and NE¼SE¼;

Sec. 33, SW¼ and SW¼SE¼.

T. 41 S., R. 18 W.,

Sec. 1, lots 3 thru 5;

Sec. 3, lots 4 thru 7, lots 9 thru 11, and NE¼SE¼;

Sec. 4, lots 1, 2, and 8;

Sec. 11, N½NE¼ and SE¼NE¼;

Sec. 12, NW¼NW¼, S½NW¼, NE¼SW¼, and SE¼;

Sec. 13, E½NE¼ and E½SE¼;

T. 1 S., R. 19 W.,

Sec. 8, E½NE¼.

T. 39 S., R. 19 W.,

Sec. 23, SE¼NE¼, NE¼SE¼, and S½SE¼;

Sec. 24, S½NE¼, S½NW¼, and S½;

Secs. 25 and 26;

Sec. 27, E½ and E½SW¼;

Sec. 34, N½NE¼, SE¼NE¼, NE¼NW¼, and E½SE¼;

Sec. 35;

Sec. 36, N½ and N½SE¼.

T. 40 S., R. 19 W.,

Sec. 1, lots 3 thru 6, S½NW¼, and SW¼;

Sec. 3, SE¼SE¼;

Sec. 10, N½NE¼ and SE¼SE¼;

Sec. 11, NW¼NE¼, NW¼, and SW¼;

Sec. 13, SW¼SW¼;

Sec. 14, W½ and SE¼;

Sec. 15;

Sec. 24, NE¼NE¼, S½NE¼, N½NW¼, SE¼NW¼, and NE¼SE¼.

T. 33 S., R. 20 W.,

Sec. 35, lots 1 thru 4, E½NE¼, and E½SE¼;

Sec. 36, lots 1 and 2.

T. 34 S., R. 20 W.,

Sec. 1, lots 3 and 4, S½NW¼, and SW¼.

T. 27 S., R. 3 E.,

Sec. 3, lot 1, SE¼NE¼, and SE¼;

Sec. 10, lots 1 thru 4, E½NE¼, E½NW¼, SW¼, and E½SE¼;

Secs. 11 and 14;

Sec. 15, lots 1 and 2, E½NE¼, NE¼NW¼, S½NW¼, and S½.

T. 3 S., R. 4 E.,

Sec. 3, lots 8, 15, and 18;

Sec. 4, lot 14.

T. 29 S., R. 4 E.,

Sec. 23, N½NE¼ and SE¼NE¼.

T. 23 S., R. 6 E.,

Secs. 10 and 11.

T. 19 S., R. 7 E.,

Sec. 13, E½NE¼.

T. 19 S., R. 8 E.,

Sec. 7, SW¼SE¼;

Sec. 17, NW¼NW¼ and E½SW¼;

Sec. 18, lots 1, 2, W½NE¼, and E½NW¼.

T. 11 S., R. 9 E.,

Sec. 28, SW¼NW¼ and NW¼SE¼.

T. 11 S., R. 10 E.,

Sec. 29, W½NW¼ and SW¼;

Sec. 30, NE¼NE¼, S½NE¼, and SE¼;

Sec. 31, N½NE¼ and SW¼NE¼;

Sec. 33, N½NW¼ and SW¼NW¼.

T. 14 S., R. 11 E.,

Secs. 20 and 21;

Sec. 28, W½NE¼, NE¼NW¼, SE¼SW¼, and NW¼SE¼;

Sec. 29, W½NW¼, SW¼, and W½SE¼;

Sec. 30, lots 1 and 2, E½, and E½NW¼;

Sec. 31, NE¼ and N½SE¼.

T. 34 S., R. 11 E.,

Sec. 28, S½, unsurveyed;

Sec. 33;

Sec. 34, W½, unsurveyed.

T. 35 S., R. 11 E.,

Sec. 1, lots 1 thru 4, S½NE¼, S½NW¼, SW¼, and W½SE¼;

Sec. 3;

Secs. 4 and 5, secs. 8 thru 11, and sec. 17, unsurveyed;

Sec. 21, N½, unsurveyed.

T. 15 S., R. 12 E.,

Sec. 28;

Sec. 33, N½, SW¼, N½SE¼, and SW¼SE¼.

T. 16 S., R. 12 E.,

Secs. 15, 21, and 22.

T. 34 S., R. 12 E.,

Sec. 31, lots 1 thru 4, N½NE¼, SW¼NE¼, E½NW¼, and NE¼SW¼.

T. 38 S., R. 12 E.,

Sec. 35, lots 1 and 2, lots 5 thru 9, E½NE¼, and SE¼;

Sec. 36.

T. 39 S., R. 12 E.,

Sec. 1, unsurveyed;

Sec. 3, lots 5 thru 8 and S½SE¼.

T. 15 S., R. 13 E.,

Sec. 11, SE¼;

Sec. 12, S½NE¼ and S½;

Sec. 13;

Sec. 14, N½NE¼, SE¼NE¼, SE¼SW¼, and S½SE¼;

Sec. 23;

Sec. 24, W½.

T. 19 S., R. 13 E.,

Secs. 1, 12, and 13.

T. 26 S., R. 13 E.,

Sec. 22.

T. 39 S., R. 13 E.,

Sec. 6, S½NE¼, NW¼, and S½, unsurveyed.

T. 13 S., R. 14 E.,

Sec. 26, W½ and NW¼SE¼;

Sec. 27, N½NE¼, NW¼, and E½SW¼;

Sec. 33, S½NE¼NE¼, S½NE¼, S½NW¼, NE¼SW¼, N½SE¼, and SE¼SE¼;

Sec. 34, W½NW¼ and SW¼.

T. 14 S., R. 14 E.,

Secs. 11 thru 14;

Sec. 24, NW¼NE¼.

T. 19 S., R. 14 E.,

Secs. 6, 7, and 18.

T. 21 S., R. 14 E.,

Sec. 15, N½, SW¼, N½SE¼, and SW¼SE¼;

Sec. 22, W½NE¼, W½, and W½SE¼;

Sec. 27, W½NE¼, W½, and W½SE¼.

T. 25 S., R. 14 E.,

Secs. 22 and 27.

T. 27 S., R. 14 E.,

Sec. 5.

T. 21 S., R. 15 E.,

Secs. 1, 3, and 4;

Sec. 5, lots 1 thru 19, NW¼SW¼, S½SW¼, and NE¼SE¼;

Sec. 10, NW¼NE¼, N½NW¼, and SW¼SW¼;

Sec. 11, N½NE¼ and NE¼NW¼;

Sec. 12, lots 1 thru 4, W½NE¼, N½NW¼, and NW¼SE¼;

Sec. 13, lots 1 thru 4, SW¼NE¼, NW¼NW¼, S½NW¼, NE¼SW¼, S½SW¼, and W½SE¼;

Sec. 14, S½NE¼, S½NW¼, and S½;

Sec. 22, SE¼NE¼ and S½;

Sec. 27, N½NE¼ and N½NW¼.

T. 21 S., R. 16 E.,

Sec. 5, NW¼SW¼;

Sec. 6, lots 5 and 6, lots 11 thru 13, and lots 19 thru 22, NE¼SW¼, and N½SE¼;

Sec. 7, lots 3 and 4, S½NE¼, SE¼NW¼, E½SW¼, and NE¼SE¼;

Sec. 8, SW¼NW¼.

T. 21 S., R. 17 E.,

Sec. 17, SW¼ and N½SE¼;

Sec. 18, lots 3 and 4, E½SW¼, and SE¼;

Sec. 19, lot 1, N½NE¼, and NE¼NW¼;

Sec. 20, E½ and NW¼;

Sec. 21;

Sec. 22, N½NE¼, SW¼NW¼, NW¼SW¼, S½SW¼, and S½SE¼;

Secs. 26 and 27;

Sec. 28, NE¼.

T. 22 S., R. 17 E.,

Secs. 21, 22, and 35.

T. 23 S., R. 17 E.,

Secs. 3 thru 5, and sec. 8;

Sec. 9, lots 1 thru 4, N½, W½SW¼, and N½SE¼;

Sec. 10, lots 1 thru 4, N½, N½SW¼, and N½SE¼;

Sec. 15, lots 1 thru 5, SE¼NW¼, and S½;

Secs. 17 and 18.

T. 25 S., R. 19 E.,

Sec. 35.

T. 26 S., R. 19 E.,

Sec. 1, unsurveyed.

T. 26 S., R. 20 E.,

Sec. 20, W½NE¼, W½, and W½SE¼.

T. 40 S., R. 21 E.,

Sec. 25, lot 6.

T. 26 S., R. 22 E.,

Sec. 6, lot 3.

T. 29 S., R. 22 E.,

Sec. 21, N½NE¼, NW¼, and S½;

Sec. 28.

T. 36 S., R. 22 E.,

Sec. 12, lots 4 and 5, and NW¼SW¼;

Sec. 13, lots 1 thru 9, E½NE¼, and E½SE¼;

Sec. 21, lots 1 thru 4, E½NW¼, and NW¼NW¼;

Sec. 24;

Sec. 25, N½ and NE¼SE¼;

Sec. 28, SW¼NW¼, NW¼SW¼, and S½SW¼;

Sec. 33, N½, SW¼, and W½SE¼.

T. 37 S., R. 22 E.,

Sec. 3, lot 4;

Sec. 4, lots 1 thru 4, SW¼NE¼, S½NW¼, SW¼, W½NW¼SE¼, and W½SW¼SE¼;

Secs. 7 and 8;

Sec. 17, N½;

Sec. 18.

T. 40 S., R. 22 E.,

Sec. 29, lots 9 thru 13, and NW¼NW¼;

Sec. 30, lot 9, lots 12 thru 15, N½NE¼NE¼, N½SW¼NE¼NE¼, SE¼SW¼NE¼NE¼, SE¼NE¼NE¼, N½NW¼NE¼, N½SW¼NW¼NE¼, and N½SE¼NW¼NE¼;

Sec. 31, lot 3.

T. 24 S., R. 23 E.,

Sec. 20, lot 13;

Sec. 29, N½NW¼.

T. 27 S., R. 23 E.,

Sec. 20, NE¼, E½NW¼, and W½SW¼;

Sec. 21, N½;

Sec. 22, W½NE¼, W½, NW¼SE¼, and S½SE¼;

Sec. 29, W½NW¼.

T. 30 S., R. 23 E.,

Sec. 1;

Sec. 10;

Sec. 11, lots 1 thru 4, W½NE¼, N½NW¼, SE¼NW¼, SW¼, and W½SE¼;

Sec. 12, N½, SW¼, N½SE¼, and SE¼SE¼;

Sec. 13, N½, NE¼SW¼, and SE¼;

Secs. 14 and 15, secs. 22 thru 29, and secs. 33 thru 35.

T. 31 S., R. 23 E.,

Sec. 3, lots 1 thru 4, S½NE¼, S½NW¼, SW¼, N½SE¼, and SW¼SE¼;

Secs. 4, 9, and 10.

T. 32 S., R. 23 E.,

Sec. 11;

Sec. 12, lots 1 and 2, W½NE¼, W½, and W½SE¼;

Sec. 17;

Sec. 18, SE¼NE¼ and SE¼.

T. 36 S., R. 23 E.,

Sec. 5, lot 4;

Sec. 6, lots 1 thru 3, SE¼SW¼, and SW¼SE¼;

Sec. 7, W½NE¼ and SE¼NE¼;

Sec. 8, NW¼NW¼.

T. 22 S., R. 24 E.,

Sec. 3, lots 4 and 5, and SW¼NW¼;

Sec. 4, lots 1 thru 3.

T. 28 S., R. 24 E.,

Sec. 34, N½NE¼, SW¼NE¼, NW¼, N½SW¼, and SW¼SW¼;

Sec. 35, E½, E½NW¼, E½SW¼, and NW¼SW¼.

T. 29 S., R. 24 E.,

Sec. 1;

Sec. 3, lots 3 and 4, SW¼NE¼, and S½NW¼;

Sec. 25.

T. 30 S., R. 24 E.,

Sec. 10, excepting patented mining claims;

Sec. 11, NW¼NW¼, W½NE¼NW¼, S½NW¼, SW¼, and W½SW¼SE¼, excepting patented mining claims.

Secs. 25 thru 31, and secs. 33 and 34;

Sec. 35, NE¼, W½NW¼, and S½.

T. 32 S., R. 24 E.,

Sec. 1;

Sec. 12, N½, SW¼ and NW¼SE¼;

Sec. 13, N½NW¼ and SW¼NW¼;

Sec. 14, E½ and N½NW¼.

T. 29 S., R. 25 E.,

Secs. 6 and 31.

T. 30 S., R. 25 E.,

Sec. 15, SW¼NW¼, NW¼SW¼, and S½SW¼;

Secs. 17, 18, 20, and 21;

Sec. 22, NW¼ and S½;

Sec. 27;

Sec. 28, N½, N½SW¼, N½SE¼, and SE¼SE¼;

Sec. 29.

T. 32 S., R. 25 E.,

Sec. 1, SE¼SW¼;

Sec. 3, SE¼;

Sec. 4, lots 3 thru 6, lots 12 and 13, SW¼, and S½SE¼;

Sec. 5, lots 1 thru 16, NE¼SW¼, and SE¼;

Sec. 6, lots 1 thru 14 and lots 16 thru 18;

Sec. 7, lot 4, E½SW¼, and SE¼;

Sec. 8, E½NE¼, S½SW¼, E½SE¼, and SW¼SE¼;

Sec. 9;

Sec. 10, N½, SW¼, N½SE¼, and SW¼SE¼;

Sec. 12, SW¼NE¼;

Sec. 14, SW¼NW¼ and SW¼;

Sec. 15;

Sec. 17, NE¼, E½NW¼, E½SW¼, N½SE¼, and SW¼SE¼;

Sec. 21, NE¼;

Sec. 22, N½ and SE¼;

Sec. 23, NW¼NE¼ and N½SE¼;

Sec. 24, S½NE¼;

Sec. 26, W½NE¼, NW¼, and SW¼;

Sec. 27, SE¼NE¼, N½NW¼, SW¼NW¼, W½SW¼, and E½SE¼;

Sec. 29, N½;

Sec. 34, N½;

Sec. 35, N½.

T. 21 S., R. 26 E.,

Sec. 31, N½NE¼, N½NW¼, SW¼NW¼, and SW¼.

T. 26 S., R. 26 E.,

Sec. 31, lots 1 and 2.

T. 32 S., R. 26 E.,

Sec. 19, N½SE¼.

T. 33 S., R. 26 E.,

Sec. 9, W½SW¼.

The areas described aggregate approximately 170,429 acres.

The Secretary of the Interior has approved the petition to file a withdrawal application. The Secretary's approval constitutes her proposal to withdraw and segregate the subject lands (43 CFR 2310.1-3(e)).

There are no suitable alternative sites, and no water rights will be needed for this proposed withdrawal.

For a period until August 14, 2023, persons who wish to submit comments, suggestions, or objections related to the withdrawal application may present their views in writing to the individual listed in the ADDRESSES section earlier. Comments will be available for public review by appointment at the BLM, Utah State Office, 440 West 200 South, Suite 500, Salt Lake City, Utah 84101-1345, during regular business hours, 8 a.m. to 4 p.m., Monday through Friday, except holidays.

Before including your address, phone number, email address, or other personal identifying information in your comment, you should be aware your entire comment—including personal identifying information—may be made publicly available at any time. You may ask the BLM in your comment to withhold your personal identifying information from public review, but we cannot guarantee we will be able to do so.

For a period until May 15, 2025, subject to valid existing rights, the BLM-administered lands and interests in lands described in this notice will be segregated from all forms of entry, appropriation, and disposal under the public land laws; location and entry under the U.S. mining laws; operation of the mineral and geothermal leasing laws; and disposal under the mineral materials laws, unless the segregative effect is terminated sooner in accordance with 43 CFR 2310.2(a). Licenses, permits, cooperative agreements, or discretionary land use authorizations of a temporary nature that will not jeopardize the potential land exchange and are consistent with the relevant Utah Resource Management Plans, as amended, may be allowed with the approval of the authorized officer during the segregation period.

This proposed withdrawal will be processed in accordance with the regulations set forth in 43 CFR part 2300.

Gregory Sheehan,
State Director, Utah.

[FR Doc. 2023-10274 Filed 5-12-23; 8:45 am]

BILLING CODE 4331-25-P